ENVIRONMENTAL PROTECTION AGENCY

[FRL-6526-5]

Agency Information Collection Activities: Proposed Collection; Comment Request; ICRs Planned To Be Submitted

AGENCY: Environmental Protection Agency (EPA).

ACTION: Notice.

SUMMARY: In compliance with the Paperwork Reduction Act (44 U.S.C. 3501 et seq.), this document announces that EPA is planning to submit the following seven continuing Information Collection Requests (ICR) to the Office of Management and Budget (OMB). Before submitting the ICRs to OMB for review and approval, EPA is soliciting comments on specific aspects of the information collections as described at the beginning of Supplementary Information.

DATES: Comments must be submitted on or before March 21, 2000.

ADDRESSES: U.S. Environmental Protection Agency,1200 Pennsylvania Avenue, NW, Mail Code 2223A, Washington, DC 20460. A hard copy of an ICR may be obtained without charge by calling the identified information contact individual for each ICR in Section B of the Supplementary Information.

FOR FURTHER INFORMATION CONTACT: For specific information on the individual ICRs see Section B of the Supplementary Information.

SUPPLEMENTARY INFORMATION:

For All ICRs

An Agency may not conduct or sponsor, and a person is not required to respond to, an information collection unless it displays a currently valid OMB control number. The OMB control numbers for EPA's regulations are displayed in 40 CFR part 9.

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. In general, the required information consists of emissions data and other information deemed not to be private. However, any information submitted to the Agency for which a claim of confidentiality is made will be safeguarded according to the Agency policies set forth in Title 40, Chapter 1, part 2, subpart B—Confidentiality of Business Information (see 40 CFR part 2; 41 FR 36902, September 1, 1976; amended by 43 FR 39999, September 8, 1978; 43 FR 42251, September 28, 1978; 44 FR 17674, March 23, 1979).

A. List of ICRs Planned To Be Submitted.

In compliance with the Paperwork Reduction Act (44 U.S.C. 3501 et seq.), this notice announces that EPA is planning to submit the following seven continuing Information Collection Requests (ICR) to the Office of Management and Budget (OMB):

(1) NSPS subparts T, U, V, W, X; New Source Performance Standards (NSPS) for Phosphate Fertilizers, EPA ICR Number 1081, and OMB Control Number 2060-0037, expiration date June 30, 2000.

(2) NSPS subparts AA & AAa, New Source Performance Standards (NSPS) for Electric Arc Furnaces and Argon-Oxygen Decarburization Vessels; Subparts AA and AAa; EPA ICR No. 1060.09 and OMB No. 2060-0038; expiration date May 31, 2000.

(3) NSPS subpart MM, New Source Performance Standards (NSPS) for Automobile and Light Duty Truck Surface Coating Operations, EPA ICR Number 1064, and OMB Control Number 2060-0032, expiration date June 30, 2000.

(4) NSPS subpart TTT, New Source Performance Standards (NSPS) for Surface Coating of Plastic Parts for Business Machines; EPA ICR #1093.06, OMB No. 2060-162, expiration date May 31, 2000.

(5) MACT subparts AA & BB, National Emissions Standards for Hazardous Air Pollutants-Phosphoric Acid Manufacturing and Phosphate Fertilizers Production EPA# 1790.02, OMB# 2060-0361, expiration date June 30, 2000.

(6) MACT subpart LL, Recordkeeping and Reporting Requirements for Primary Aluminum Reduction Plants, EPA ICR No. 1767, OMB Control No. 2060-0360, expiration date May 31, 2000.

(7) MACT subpart NNN, Wool Fiberglass Insulation Manufacturing; EPA ICR No. 1795, OMB Control No. 2060-0359, expiration date May 31, 2000.

B. Contact Individuals for ICRs

(1) NSPS subparts T, U, V, W, X; New Source Performance Standards (NSPS) for Phosphate Fertilizers, Stephen Howie at, (202) 564-4146 or via e-mail to howie.stephen@epa.gov. EPA ICR Number 1081, and OMB Control Number 2060-0037, expiration date June 30, 2000;

(2) NSPS subparts AA & AAa, New Source Performance Standards (NSPS) for Electric Arc Furnaces and Argon-Oxygen Decarburization Vessels; Subparts AA and AAa; Maria Malave at (202) 564-7027 or via e-mail to malave.maria@epamail.epa.gov, EPA ICR No. 1060.09, OMB No. 2060-0038, expiration date is May 31, 2000.

(3) NSPS subpart MM, New Source Performance Standards (NSPS) for Automobile and Light Duty Truck Surface Coating Operations, Anthony Raia at (202) 564-6045, or via e-mail to raia.anthony@epa.gov, EPA ICR. No. 1064, OMB Control No. 2060-0032, expiring June 30, 2000.

(4) NSPS subpart TTT, New Source Performance Standards (NSPS) for Surface Coating of Plastic Parts for Business Machines; Anthony Raia at (202) 564-6045 or via e-mail to raia.anthony@epamail.epa.gov, EPA ICR No. 1093.06, OMB No. 2060-0162, expires on May 31, 2000.

(5) MACT subparts AA & BB, National Emissions Standards for Hazardous Air Pollutants-Phosphoric Acid Manufacturing and Phosphate Fertilizers Production, Stephen Howie, at (202) 564-4146 or via e-mail at howie.stephen@.epa.gov., EPA# 1790.02, OMB# 2060-0361, expiration date June 30, 2000.

(6) MACT subpart LL, Record keeping and Reporting Requirements for Primary Aluminum Reduction Plants, Deborah Thomas at (202)564-5041 or via e-mail at thomas.deborah@epa.gov, EPA ICR No. 1767, OMB Control No. 2060-0360, expiration date is May 31, 2000.

(7) MACT subpart NNN, Wool Fiberglass Insulation Manufacturing; Gregory Fried at (202)564-7016 or via e-mail at fried.gregory@epa.gov, EPA ICR No. 1795, OMB Control No. 2060-0359, expiring May 31, 2000.

C. Individual ICRs

(1) NSPS Subparts T, U, V, W, X; New Source Performance Standards (NSPS) for Phosphate Fertilizers, EPA ICR Number 1081, and OMB Control Number 2060-0037, Expiration Date June 30, 2000

Affected entities: These standards apply to each wet phosphoric acid plant, each super phosphoric acid plant, each granular diammonium phosphate plant, and each triple superphosphate plant, having a design capacity of more than 15 tons of equivalent phosphorous pentoxide (P2O5) feed per calendar day. These standards also apply to granular triple superphosphate storage facilities. Specific affected facilities for each subpart are found at 40 CFR 60.200, 60.210, 60.220, 60.230 and 60.240.

Abstract: The Administrator has judged that fluoride emissions from the phosphate fertilizer industry cause or contribute to air pollution that may reasonably be anticipated to endanger public health or welfare. Phosphate fertilizer plant and phosphate bearing feed owners/operators of phosphate fertilizer plants must notify EPA of construction, modification, start-ups, shutdowns, malfunctions, and dates and results of the initial performance test. Owners/operators must install, calibrate, and maintain monitoring devices to continuously measure/record pressure drop across scrubbers.

Record keeping shall consist of: the occurrence and duration of all startups and malfunctions as described; initial performance tests results; amount of phosphate feed material; equivalent calculated amounts of P2O5, and pressure drops across scrubber systems. Startups, shutdowns and malfunctions must be recorded as they occur. Performance test records must contain information necessary to determine conditions of performance test and performance test measurements. Equivalent P2O5 stored or amount of feed must be recorded daily. The Continuous Monitoring System shall record pressure drop across scrubbers continuously and automatically.

Reporting shall include: initial notifications; and initial performance test results. In order to ensure compliance with the standards promulgated to protect public health, adequate reporting and record keeping is necessary. In the absence of such information enforcement personnel would be unable to determine whether the standards are being met on a continuous basis, as required by the Clean Air Act.

Burden Statement: The annual public reporting and record keeping burden for this collection of information is estimated to average 87.5 hours per response. There are 11 respondents/affected entities that report annually for an estimated total annual hour burden of 963 hours.

(2) NSPS Subparts AA & AAa, New Source Performance Standards (NSPS) for Electric Arc Furnaces and Argon-Oxygen Decarburization Vessels; EPA ICR No. 1060.09 and OMB No. 2060-0038; Expiration Date is May 31, 2000

Affected Entities: Entities potentially affected by this action are those owners or operators of electric arc furnaces and dust handling systems in steel plants that produce carbon, alloy, or specialty steels; and commenced construction, modification, or reconstruction after the date of proposal (i.e., October 21, 1974), and for subpart AAa on or before August 17, 1983.

Abstract: Owners or operators of the affected facilities described make the following one-time only reports: notification of the date of construction or reconstruction; notification of the anticipated and actual dates of startup; notification of any physical or operational change to an existing facility which may increase the regulated pollutant emission rate; and the notification of the date of the initial performance test. Owners or operators are also required to maintain records of the occurrence and duration of any startup, shutdown, or malfunction in the operation of an affected facility. These notifications, reports and records are required, in general, of all sources subject to NSPS.

Recordkeeping and reporting requirements specific to steel plants subject to NSPS subpart AA and AAa include the initial notifications, and recording of all measurements required under the monitoring sections. Owners or operators of electric arc furnaces controlled by a direct shell evacuation system are required to install and maintain a continuous monitoring device that continuously records pressure inside the EAF, and records 15 minute integrated averages. Prior notification it is required for the procedure used for determining compliance when emissions are combined with facilities that are not subject. The results of the performance tests including all requirements specified in sections 60.275, 60.276(c), 60.275a, and 60.276(f) must be reported.

Semiannual reports of unacceptable operation of the affected facilities, and semiannual reports of exceedance of control device opacity are also required. Unacceptable operation is considered to be operation at a furnace with static pressures that exceed the values established at sections 60.274(f) and 60.274a(g), or operation of the control system fan motor at values ±15% of the values established under the performance test, or operation at flow rates lower than those established in the performance test. Exceedance of opacity are defined as all 6-minute periods during which the average opacity is greater than the standard. In general, excess emission reports must include the magnitude of excess emissions; conversion factors used; the date and time of commencement and completion of each excess emission time period; identification of excess emissions during startups, shutdowns, and malfunctions; the nature and cause of the malfunction (if known) and corrective measures taken; and identification of the time period during which the continuous monitoring system was inoperative (this does not include zero and span checks nor typical repairs or adjustments).

Any owner or operator subject to the provisions of this part shall maintain a file of these measurements, and retain the file for at least two years following the date of such measurements, maintenance reports, and records.

All reports are sent to the delegated State or local authority. In the event that there is no such delegated authority, the reports are sent directly to the EPA Regional Office. Notifications are used to inform the Agency or delegated authority when a source becomes subject to the standard. The reviewing authority may then inspect the source to check if the pollution control devices are properly installed and operated and the standards are being met. Performance test reports are needed as these are the Agency's records of a source initial capability to comply with the emission standard, and note the operating conditions under which compliance was achieved.

The Administrator may require owners and operators subject to section 111 of the Clean Air Act (CAA) are required to comply with record keeping and reporting requirements, as specified in section 114(a) of CAA.

In order to ensure compliance with these standards, adequate recordkeeping is necessary. In the absence of such information enforcement personnel would be unable to determine whether the standards are being met on a continuous basis, as required by the Clean Air Act.

Burden Statement: The type of industry costs associated with the information collection activity in the standards are labor costs and equipment costs for continuous emission monitors. The average annual burden to industry over the past three years for these record keeping and reporting requirements were estimated to be 34,082.3 person-hours. The average annual cost to industry over the past three years of the previously approved ICR was estimated to be $1,193,200. The total annualized capital/start-up costs is $48,600 since it is assumed that one additional source per year will become to the standard in the next three years. The total annualized capital/start-up costs is $48,600 (includes cost for a continuous opacity monitor; a volumetric flow rate monitor; and a pressure monitor). The total annual operation and maintenance cost is estimated to be $487,500 since there are 65 existing sources ($7,500 × 65 existing sources). It is assumed that annual operation and maintenance costs associated with other monitoring equipment are negligible. Therefore, the total annualized costs is $536,100.

(3) NSPS Subpart MM, New Source Performance Standards (NSPS) for Automobile and Light Duty Truck Surface Coating Operations, EPA ICR. No. 1064, OMB Control No. 2060-0032, Expires on June 30, 2000

Affected Entities: Entities potentially affected by this action are those owners or operators of automobile and light duty truck assembly plant lines: each prime coat operation, guide coat operation, and top coat operation commencing construction, modification or reconstruction after the proposal date (October 5, 1979).

Abstract: Owners or operators of the affected facilities described make the following one-time only reports: notification of the date of construction or reconstruction; notification of the anticipated and actual dates of startup; notification of any physical or operational change to an existing facility which may increase the regulated pollutant emission rate; and the notification of the date of the initial performance test. Owners or operators are also required to maintain records of the occurrence and duration of any startup, shutdown, or malfunction in the operation of an affected facility. These notifications, reports and records are required, in general, of all sources subject to NSPS.

Record keeping requirements for automobile and light duty truck surface coating operations consist of keeping monthly records of exceedance of the volume-weighted average of VOCs emitted per volume of applied coating solids. When thermal or catalytic incineration is performed, the owner or operator shall keep records of each three hour period during which the incinerator temperature averaged more than 28 degrees centigrade below the temperature of the most recent performance test, and when the average temperature difference across the catalyst bed is less than 80% of the average temperature difference recorded during the most recent performance test. Daily records of this information shall be kept at the source for a period of two years.

Reporting requirements include a written report describing the results of the initial performance test. Affected sources are required to provide a written report to the Administrator every calendar quarter of each instance in which the VOC emissions exceed the emission limit, or semiannually if no such instances have occurred. Where compliance with the NSPS is achieved through the use of incineration, affected facilities must report instances where a discrepancy of greater than 28°C exists between the three-hour average temperature measurement and the average temperature during the most recent performance test at which the destruction efficiency was determined. For catalytic incinerators, every three-hour period shall be reported during which the average temperature immediately before the catalyst bed, when the coating system is operational, is more than 28°C less than the average temperature immediately before the catalyst bed during the most recent control device performance test at which destruction efficiency was determined. Every three hour period shall be reported each quarter during which the average temperature difference across the catalyst bed when the coating system is operational is less than 80% of the average temperature difference of the device during the most recent performance test at which destruction efficiency was determined. Affected sources are also required to notify the Administrator of the date of construction or reconstruction of an applicable facility, the anticipated date of initial startup, the actual date of initial startup, any physical or operational change to the facility, and 30 days prior to any test by Reference Method 25. Notification deadlines are listed at 40 CFR 60.7.

A written report must be furnished to the Administrator describing the results of the initial performance test. Thereafter, quarterly reports of noncompliance are required, and semiannual reports shall be made when the source is in compliance with the applicable emission limitations. All reports are sent to the delegated State or local authority. In the event that there is no such delegated authority, the reports are sent directly to the EPA Regional Office.

The Administrator may require owners and operators subject to section 111 of the Clean Air Act (CAA) are required to comply with recordkeeping and reporting requirements, as specified in section 114(a) of CAA. In order to ensure compliance with these standards, adequate record keeping is necessary. In the absence of such information enforcement personnel would be unable to determine whether the standards are being met on a continuous basis, as required by the Clean Air Act.

Burden Statement: The industry costs associated with the information collection activity in the standards are labor costs and recording equipment. The current number of sources are 42 with 3 new sources a year estimated (45 sources if averaged over the next 3 years). Temperature measurement devices must include a recording device and the cost of this equipment is estimated at $750 per facility (only required for new facilities since existing facilities already have the equipment) and the operation and maintenance is estimated at $1500. The annualized start up cost is $2,250. The labor estimates used were derived from standard estimates based on EPA's experience with other standards. The average annual burden to industry over the next three years from these record keeping and reporting requirements is estimated at 2,540.3 person-hours. The respondent costs have been calculated on the basis of $16.67 per hour plus 110 percent overhead. The average annual burden to industry over the next three years of the ICR is estimated to be $88,910.

(4) NSPS Subpart TTT, New Source Performance Standards (NSPS) for Surface Coating of Plastic Parts for Business Machines; EPA ICR #1093.06, OMB No. 2060-162, Expires on May 31, 2000

Affected Entities: Entities potentially affected by this standard are those owners or operators of spray booths in which plastic parts for business machines receive prime, color, texture, or touch-up coats, and for which construction, modification or reconstruction commenced after the proposal date.

Abstract: Owners or operators of the affected facilities described make the following one-time only reports: notification of the date of construction or reconstruction; notification of the anticipated and actual dates of startup; notification of any physical or operational change to an existing facility which may increase the regulated pollutant emission rate; and the notification of the date of the initial performance test. Owners or operators are also required to maintain records of the occurrence and duration of any startup, shutdown, or malfunction in the operation of an affected facility. These notifications, reports and records are required, in general, of all sources subject to NSPS.

Record keeping requirements specific to the surface coating of plastic parts for business machines include the records of each monthly performance test.

A written report must be furnished to the Administrator describing the results of the initial performance test. Thereafter, quarterly reports of noncompliance are required, and semiannual reports shall be made when the source is in compliance with the applicable emission limitations.

All reports are sent to the delegated State or local authority. In the event that there is no such delegated authority, the reports are sent directly to the EPA Regional Office. Notifications are used to Inform the Agency or delegated authority when a source becomes subject to the standard. The reviewing authority may then inspect the source to check if the standards are being met. Performance test reports are needed as these are the Agency's records of a source initial capability to comply with the emission standard, and note the operating conditions under which compliance was achieved.

The Administrator may require owners and operators subject to section 111 of the Clean Air Act (CAA) are required to comply with record keeping and reporting requirements, as specified in section 114(a) of CAA.

In order to ensure compliance with these standards, adequate recordkeeping is necessary. In the absence of such information enforcement personnel would be unable to determine whether the standards are being met on a continuous basis, as required by the Clean Air Act.

Burden Statement: The only type of industry costs associated with the information collection activity in the standards are labor costs. The average annual burden to industry over the past three years for these record keeping and reporting requirements were estimated to be $29,444 person-hours. The average annual cost to industry over the past three years of the ICR was estimated to be $896,569.

(5) MACT Subparts AA & BB, National Emissions Standards for Hazardous Air Pollutants-Phosphoric Acid Manufacturing and Phosphate Fertilizers Production, EPA# 1790.02, OMB# 2060-0361, Expiration Date June 30, 2000

Affected entities: These standards apply to owners or operators of phosphoric acid manufacturing and phosphate fertilizers production facilities. Specific affected facilities for each subpart are found at 40 CFR 63.600 and 60.620.

Abstract: The Administrator has judged that hydrogen fluoride emissions from the phosphoric acid manufacturing and phosphate fertilizer industry cause or contribute to air pollution that may reasonably be anticipated to endanger public health or welfare. Owners/operators of affected phosphoric acid manufacturing and phosphate fertilizer production must submit one-time notifications (where applicable) and annual reports on performance test results. Plants must develop and implement a startup, shutdown, and malfunction plan and submit semiannual reports of any event where the plan was not followed. Semiannual reports for periods of operation during which the monitoring parameter boundaries established during the initial compliance test are exceeded (or reports certifying that no exceedances have occurred) also are required. General requirements applicable to all NESHAP require records of applicability determinations; test results; exceedance; periods of startups, shutdowns, or malfunctions; monitoring records; and all other information needed to determine compliance with the applicable standard. Records and reports must be retained for a total of 5 years (2 years at the site; the remaining 3 years of records may be retained off-site). The files may be maintained on microfilm, on a computer or floppy disks, on magnetic tape disks, or on microfiche.

Subparts AA and BB require respondents to install monitoring devices to measure the pressure drop and liquid flow rate for wet scrubbers. These operating parameters are permitted to vary within ranges determined concurrently with performance tests. Exceedance of the operating ranges are considered violations of the site-specific operating limits.

The standards require sources to determine and record the amount of phosphatic feed material processed or stored on a daily basis. This requirement allows verification of plant operating rate which is one of the factors considered in establishing the operating ranges of control devices. This requirement poses no additional burden upon the industry. This is so because proper plant operation and industry practice include daily recording of phosphate-bearing feed processed. This practice predates the regulations and would continue in their absence. Because the daily record keeping requirement places no additional burden upon sources, no estimate has been made for this requirement. Respondents also maintain records of specific information needed to determine that the standards are being achieved and maintained.

Since many of the facilities potentially affected by the proposed standards are currently subject to new source performance standards (NSPS), the standards include an exemption from the NSPS for those sources. That exemption eliminates a duplication of information collection requirements.

In order to ensure compliance with the standards promulgated to protect public health, adequate reporting and record keeping is necessary. In the absence of such information enforcement personnel would be unable to determine whether the standards are being met as required by the Clean Air Act.

Burden Statement: The annual public reporting and record keeping burden for this collection of information is estimated to average 132 hours per response. There are 15 respondents/affected Entities, reporting semiannually, for an estimated total annual hour burden of 3,790 hours.

(6) MACT Subpart LL, Recordkeeping and Reporting Requirements for Primary Aluminum Reduction Plants, EPA ICR No. 1767, OMB Control No. 2060-0360, Expiration Date is May 31, 2000

Affected Entities: Entities potentially affected by this action are primary aluminum reduction plants that emit or have the potential to emit hazardous air pollutants (HAPs) listed in section 112(b) of the Clean Air Act. Specifically, the requirements apply to the owner or operator of the affected facilities which include new or existing potline, paste production plant, or anode bake furnace associated with primary aluminum production and located at a major source, and for each new pitch storage tank associated with a primary aluminum reduction plant.

Abstract: Primary aluminum reduction plants may reasonably be anticipated to emit from their various process operations several of the HAPs that, in the Administrator's judgement, cause or contribute to air pollution that may endanger public health or welfare. Consequently, technology-based standards (MACT) were promulgated for this source category. These MACT standards ensure that all major sources of air toxic emissions achieve the level of control already being achieved by the better controlled and lower emitting sources in each category and involve the installation, operation and maintenance of particulate control devices such as electrostatic precipitator or scrubbers.

In order to ensure compliance with the standards, adequate record-keeping and reporting is necessary. This information enables the Agency to: (1) Identify the sources subject to the standard; (2) ensure initial compliance with emission limits; and (3) verify continuous compliance with the standard. Specifically, the rule requires written notification when (1) an area source that subsequently increases its emissions such that the source is a major source; (2) a source is subject to the standard, where the initial startup is before the effective date of the standard; (3) a source is subject to the standard, where the source is new or has been reconstructed, the initial startup is after the effective date of the standard, and for which an application for approval of construction or reconstruction is not required; (4) there is an intent to construct a new major source or reconstruct a major source, the date construction or reconstruction commenced, the anticipated date of startup, where the initial startup of a new or reconstructed source occurs after the effective date of the standard, and for which an application for approval or construction or reconstruction is required; (5) initial performance test; (6) initial compliance status; (7) one-time notification for each affected source of the intent to use an HF continuous emission monitor; and (8) compliance approach. In addition, sources are required to submit results of the initial performance test and a summary of all subsequent performance tests, submit a report if measured emissions are in excess of the applicable standard, and to develop a plan for and keep records of all startups, shutdowns, and malfunctions. The owner or operator shall also maintain files of all information required by section 63.10(b) and by subpart LL.

In the absence of such information collection requirements, enforcement personnel would be unable to determine whether the standards are being met on a continuous basis, as required by the Clean Air Act. Consequently, these information collection requirements are mandatory, and the records required by MACT must be retained by the owner or operator for five years.

Burden Statement: In the previously approved ICR, the average annual burden to the industry over the next three years to meet these record-keeping and reporting requirements was estimated to total 52,544 person-hours. This is based on an estimated 23 respondents and an average of 2,300 hours per respondent (i.e., per plant). Each respondent is required to report semiannually.

(7) MACT Subpart NNN, Wool Fiberglass Insulation Manufacturing; EPA ICR No. 1795, OMB Control No. 2060-0359, Expiring 5/31/00

Affected Entities: These standards apply to each of the following existing and newly constructed sources located at a wool fiberglass manufacturing facility: all glass-melting furnaces, rotary spin (RS) manufacturing lines that produce bonded building insulation, and flame attenuation (FA) manufacturing lines producing bonded pipe insulation. The rule also applies to new FA manufacturing lines producing bonded heavy-density products. RS and FA manufacturing lines that produce nonbonded products, where no binder is applied, are not subject to the standards. A facility emitting less than 10 tons per year of any HAP or less than 25 tons per year of any combination of HAPs is an area source and is not subject to this NESHAP. Facilities that manufacture mineral wool from rock or slag are not subject to this rule but are subject to a separate NESHAP for mineral wool production. (See 62 FR 25370 (May 8, 1997), notice of proposed rulemaking.)

Abstract: The NESHAP for wool fiberglass manufacturing plants was proposed on March 31, 1997 (62 FR 15228) and promulgated on May 13, 1999. Owners and operators of wool fiberglass manufacturing plants are required to comply with the notification, reporting, and recordkeeping requirements for MACT standards in the NESHAP general provisions (40 CFR part 63, subpart A). The general provisions require: (1) Initial notification(s) of applicability, notification of performance test, and notification of compliance status; (2) a report of performance test results; (3) a startup, shutdown, and malfunction plan with semiannual reports of any reportable events; and (4) semiannual reports of deviations from established parameters. When deviations in operating parameters established during performance testing are reported, the owner or operator must report quarterly until a request to return to semiannual reporting is approved by the Administrator.

In addition to the requirements of the general provisions, section 63.1386 of the final rule specifies additional records to be kept by owners or operators of a wool fiberglass manufacturing plants. The final rule requires the owner or operator to maintain records of the following, as applicable: (1) Bag leak detection system alarms, including the date and time of the alarm, when corrective actions were initiated, the cause of the alarm, an explanation of the corrective actions taken, and when the cause of the alarm was corrected; (2) ESP parameter value(s) used to monitor ESP performance, including any period when the value(s) deviates from the established limit(s), the date and time of the deviation, when corrective actions were initiated, the cause of the deviation, an explanation of the corrective actions taken, and when the cause of the deviation was corrected; (3) air temperature above the molten glass in an uncontrolled cold top electric furnace, including any period when the temperature exceeds 120 °C (250 °F) at a location 46 to 61 centimeters (18 to 24 inches) above the molten glass surface, the date and time of the exceedance, when corrective actions were initiated, the cause of the exceedance, an explanation of the corrective actions taken, and when the cause of the exceedance was corrected; (4) uncontrolled glass-melting furnace (that is not a cold top electric furnace) parameter value(s) used to monitor furnace performance, including any period when the value(s) exceeds the established limit(s), the date and time of the exceedance, when corrective actions were initiated, the cause of the exceedance, an explanation of the corrective actions taken, and when the cause of the exceedance was corrected; (5) the LOI and product density for each bonded product manufactured on a RS or FA manufacturing line, the free formaldehyde content of each resin shipment received and used in binder formulation, and the binder formulation of each batch; (6) Process parameter level(s) for RS and FA manufacturing lines that use process modifications to comply with the emission standards, including any period when the parameter level(s) deviates from the established limit(s), the date and time of the deviation, when corrective actions were initiated, the cause of the deviation, an explanation of the corrective actions taken, and when the cause of the deviation was corrected; (7) scrubber pressure drop, scrubbing liquid flow rate, and any chemical additive (including chemical feed rate to the scrubber), including any period when a parameter level(s) deviates from the established limit(s), the date and time of the deviation, when corrective actions were initiated, the cause of the deviation, an explanation of the corrective actions taken, and when the cause of the deviation was corrected; (8) incinerator operating temperature and results of periodic inspection of incinerator components, including any period when the temperature falls below the established average or the inspection identifies problems with the incinerator, the date and time of the problem, when corrective actions were initiated, the cause of the problem, an explanation of the corrective actions taken, and when the cause of the problem was corrected; and (9) glass pull rate, including any period when the pull rate exceeds the average pull rate established during the performance test by more than 20 percent, the date and time of the exceedance, when corrective actions were initiated, the cause of the exceedance, an explanation of the corrective actions taken, and when the cause of the exceedance was corrected.

The NESHAP general provisions (40 CFR part 63, subpart A) require that records be maintained for at least 5 years from the date of each record. The owner or operator must retain the records onsite for at least 2 years but may retain the records offsite the remaining 3 years.

Burden Statement: There are 21 sources subject to this standard. The total average annual hours are estimated to be 17,800. The total average annual cost is estimated to be $571,000. The following is a breakdown of burden used in the ICR. EPA estimates a two hour burden for notification of applicability and notification of the date of the performance test, and a four hour burden for the notification of compliance status. EPA estimates an eight hour burden for reporting of both excess emissions and for startups, shutdowns and malfunctions. EPA also estimates a 16 hour burden for reporting of monitoring exceedence. EPA also estimates a 40 hour burden for each of the following plans: an Operation, Maintenance, and Monitoring Plan; a Startup, Shutdown, and Malfunction Plan; and a Quality Improvement Plan. For each new source, EPA estimates a 980 hour burden for the initial performance test. Finally, EPA estimates a 9 hour burden for maintaining all records of information required by this subpart.

The total nationwide capital cost associated with monitoring for 21 plants over the three year ICR clearance period is estimated at $857,000. These costs include $163,000 capital costs for a bag leak detection system for 18 baghouses ($9,100 per baghouse leak detection system × 18 baghouses) at 11 facilities with $500/yr/baghouse in operation and maintenance costs; $18,000 capital cost for temperature monitors on 12 cold top electric furnaces at 6 facilities ($1,500 per temperature monitoring and recording device × 12 furnaces); and a one-time cost of $675,000 to establish a correlation between formaldehyde emissions and process parameters used to monitor compliance on affected RS and FA manufacturing lines ($15,000 per line × 45 RS and FA manufacturing lines). No additional cost is assumed by EPA for a thermocouple with a strip chart recorder for incinerators, as the thermocouple is customarily included in the cost of the thermal incinerator. Other equipment used to monitor control devices and processes are already in-place; thus, there would be no additional monitoring costs. The total annualized capital cost is $123,000, or an average of $41,000/yr over the three year startup period. Total annual operation and maintenance costs associated with the monitoring equipment is $9,000 ($500 per baghouse leak detection system × 18 baghouses), or an average of $3,000/yr over the three year startup period.

Dated: January 7, 2000.
Bruce R. Weddle,
Acting Director, Office of Compliance.

[FR Doc. 00-1210 Filed 1-20-00; 8:45 am]

BILLING CODE 6560-50-P